DEPARTMENT OF TRANSPORTATION

Federal Aviation Administration

Notice of Intent To Rule on Application To Impose and Use the Revenue From a Passenger Facility Charge (PFC) at Savannah International Airport, Savannah, GA

AGENCY: Federal Aviation Administration (FAA), DOT.

ACTION: Notice of intent to rule on application.

SUMMARY: This correction revises information from the previously published notice.

In notice 02-22122 appearing on page 55912 in the issue of Friday, August 30, 2002, under SUPPLEMENTARY INFORMATION, in the second column, in the 17th, 18th, and 19th lines, should replace, “Date 120 Days Past Receipt Application or Supplement,” with, “October 10, 2002.”

FOR FURTHER INFORMATION CONTACT: Philip Cannon, Program Manager, Atlanta Airports District Office, 1701 Columbia Avenue, Suite 2-260, College Park, Georgia 30337-2747, 404-305-7152.

Scott L. Seritt,
Manager, Atlanta Airports District Office, Southern Region.

[FR Doc. 02-23117 Filed 9-11-02; 8:45 am]

BILLING CODE 4910-13-M